DEPARTMENT OF HEALTH AND HUMAN SERVICES

Centers for Disease Control and Prevention

[30Day-10-10AJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Evaluation of Childhood Obesity Prevention and Control Initiative: New York City Health Bucks Program —New—National Center for Chronic Disease Prevention and Health Promotion (NCCDPHP), Centers for Disease Control and Prevention (CDC).

Background and Brief Description

Childhood obesity is a major public health concern. One out of every five children is affected by overweight or obesity in the United States, making it the most prevalent nutritional disease of this population. Although increased consumption of fruits and vegetables has been found to reduce long-term obesity risk, as well as risk of heart disease and some cancers, relatively few children and adolescents consume the USDA recommended minimum standard of five servings a day of fruits and vegetables.

In response to this growing public health crisis, the Division of Nutrition, Physical Activity, and Obesity (DNPAO) at the Centers for Disease Control and Prevention (CDC), is working to identify promising local programs and policies designed to prevent childhood obesity. Priority is being given to programs and policies targeting improved eating habits and physical activity levels among children in low-income communities.

The New York City Health Bucks program, operated by the New York City Department of Health and Mental Hygiene (DOHMH), is one example of this type of initiative. The program operates in three high-need, underserved New York City neighborhoods: The South Bronx, North and Central Brooklyn, and East and Central Harlem. Through the program, targeted neighborhood residents are provided with $2 “Health Bucks” that can be redeemed at local farmers' markets for the purchase of fresh, locally-grown fruits and vegetables. The Health Bucks program is intended to increase fresh fruit and vegetable purchases and consumption, and to increase access at the community level by attracting local farmers to these underserved areas.

CDC plans to sponsor an evaluation of the NYC Health Bucks program in 2010. Information will be collected from five groups of respondents: Local community organizations involved in distributing Health Bucks to individuals (200 respondents); farmers' market managers operating New York City farmers' markets (90 respondents); farmers' market vendors selling at New York City farmers' markets (474 respondents); farmers' market consumers at New York City farmers' markets (2,348 respondents); and residents of neighborhoods in which the NYC Health Bucks program operates (1,000 respondents).

The evaluation plan calls for local community organizations to complete a web-based questionnaire at the conclusion of the farmers' market season. Farmers' market managers will complete a written survey during the farmers' market season, with in-person follow up by trained interviewers on site at farmers' markets for managers who do not respond to the initial mailing. Farmers' market vendors will complete a written survey administered by trained interviewers on site at farmers' markets, and trained interviewers will also conduct written point-of-purchase intercept surveys with farmers' market consumers. Finally, telephone interviews will be conducted with a random sample of residents in neighborhoods in which the NYC Health Bucks program operates, and in-depth information will be collected from farmers' market consumers and vendors through focus groups.

The results of the evaluation study will be used to: Assess the program's ability to improve nutrition behaviors among targeted participants; identify factors serving as barriers and facilitators to program implementation and expected outcomes; provide feedback to the DOHMH for the purposes of program improvement; and share results with other entities interested in implementing similar programs.

Information collection will be conducted in English and Spanish. There are no costs to respondents other than their time, and participation is voluntary. The total estimated annualized burden hours are 660.

Estimated Annualized Burden Hours
Type of respondents | Form type | Number of respondents | Number of responses per respondent | Average burden (in hours)
Local Community Organizations | Local Community Organization Survey | 200 | 1 | 10/60
Farmers' Market Managers | Farmers' Market Managers Survey | 90 | 1 | 8/60
Farmers' Market Vendors | Farmers' Market Vendor Survey | 450 | 1 | 7/60
| Farmers' Market Vendor Focus Group | 24 | 1 | 2
Farmers' Market Consumers | Consumer Point-of-Purchase Survey | 2,300 | 1 | 7/60
| Consumer Focus Group | 48 | 1 | 2
NYC Health Bucks Neighborhood Residents | Neighborhood Resident Survey | 1,000 | 1 | 9/60

Dated: March 22, 2010.
Maryam I. Daneshvar,
Acting Reports Clearance Officer, Centers for Disease Control and Prevention.

[FR Doc. 2010-7171 Filed 3-30-10; 8:45 am]

BILLING CODE 4163-18-P